DEPARTMENT OF HEALTH AND HUMAN SERVICES

Centers for Medicare and Medicaid Services

[Document Identifier: CMS-10106 and CMS-10072]

Agency Information Collection Activities: Submission for OMB Review; Comment Request

AGENCY: Centers for Medicare and Medicaid Services.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: Medicare Authorization to Disclose Health Information; Form No.: CMS-10106 (OMB# 0938-NEW; Use: Unless permitted or required by law, the Privacy Act and Health Insurance Portability and Accountability Act (HIPAA) Privacy Rule prohibit covered entities from disclosing an individual's protected health information to a third party without a valid privacy authorization. The authorization must include specified core elements and certain statements. Medicare beneficiaries will use the “Medicare Authorization to Disclose Health Information” to authorize Medicare to disclose their protected health information to a third party; Frequency: Other: an event basis; Affected Public: Individuals or Households; Number of Respondents: 39,000,000; Total Annual Responses: 1,000,000; Total Annual Hours: 250,000.

2. Type of Information Collection Request: Extension of a currently approved collection; Title of Information Collection: Survey Tool for Medicare.gov Web site; Form No.: CMS-10072 (OMB# 0938-0900); Use: CMS has developed a survey tool using MSInteractive to obtain feedback from users accessing cms.hhs.gov Web site to guide future improvements; Frequency: On Occasion; Affected Public: Individuals or Households and Business or other for-profit; Number of Respondents: 7,000; Total Annual Responses: 7,000; Total Annual Hours: 583.

To obtain copies of the supporting statement and any related forms for the proposed paperwork collections referenced above, access CMS Web site address at http://www.cms.hhs.gov/regulations/pra/, or e-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Christopher Martin, New Executive Office Building, Room 10235, Washington, DC 20503.

Dated: August 31, 2004.
John P. Burke, III,
Paperwork Reduction Act Team Leader, CMS Reports Clearance Officer, Office of Strategic Operations and Regulatory Affairs, Division of Regulations Development and Issuances.

[FR Doc. 04-20271 Filed 9-9-04; 8:45 am]

BILLING CODE 4120-03-P